DEPARTMENT OF HEALTH AND HUMAN SERVICES

National Institutes of Health

Prospective Grant of Exclusive License: Recombinant Antibodies and Immunoconjugates Targeted to CD-22 Bearing Cells and Tumors

AGENCY: National Institutes of Health, Public Health Service, HHS.

ACTION: Notice.

SUMMARY: This is notice, in accordance with 35 U.S.C. 209(c)(1) and 37 CFR Part 404.7(a)(1)(i), that the National Institutes of Health, Department of Health and Human Services, is contemplating the grant of an exclusive patent license to practice the inventions embodied in U.S. Patent Application No. 09/381,497, filed September 20, 1999, entitled “Recombinant Antibodies and Immunoconjugates Targeted to CD-22 Bearing Cells and Tumors” [E-059-1997/0-US-07]; European Patent Application No. 98912977.0, filed October 13, 1999, entitled “Recombinant Antibodies and Immunoconjugates Targeted to CD-22 Bearing Cells and Tumors” [E-059-1997/0-EP-05]; Japanese Patent Application No. 10-540812, filed March 19, 1998, entitled “Recombinant Antibodies and Immunoconjugates Targeted to CD-22 Bearing Cells and Tumors” [E-059-1997/0-JP-06]; Australian Patent No. 740904, issued on February 28, 2002, entitled “Recombinant Antibodies and Immunoconjugates Targeted to CD-22 Bearing Cells and Tumors” [E-059-1997/0-AU-03]; and Canadian Patent Application No. 2284665, filed March 19, 1998, entitled “Recombinant Antibodies and Immunoconjugates Targeted to CD-22 Bearing Cells and Tumors” [E-059-1997/0-CA-04]; to Cambridge Antibody Technology, Ltd., which has offices in Cambridge, United Kingdom. The patent rights in these inventions have been assigned to the United States of America.

The prospective exclusive license territory may be worldwide, and the field of use may be limited to the use of the BL22 and HA22 and variants thereof as claimed in the licensed patent rights for the treatment of hematologic malignancies.

DATES: Only written comments and/or applications for a license which are received by the NIH Office of Technology Transfer on or before October 13, 2006 will be considered.

ADDRESSES: Requests for copies of the patent application, inquiries, comments, and other materials relating to the contemplated exclusive license should be directed to: Jesse S. Kindra, J.D., M.S., Technology Licensing Specialist, Office of Technology Transfer, National Institutes of health, 6011 Executive Boulevard, Suite 325, Rockville, MD 20852-3804; Telephone (301) 435-5559; Facsimile: (301) 402-0220; E-mail: kindraj@mail.nih.gov.

SUPPLEMENTARY INFORMATION: This technology is a family of two (2) immunoconjugates, each consisting of an anti-CD-22 antibody coupled to a killing moiety, specifically pseudomonas exotoxin (PE38). The immunotoxins are both targeted towards CD-22, and may be useful as therapeutic agents for the treatment of leukemias, lymphomas and autoimmune diseases. Further, BL22 has shown success in early clinical trials.

The prospective exclusive license will be royalty bearing and will comply with the terms and conditions of 35 U.S.C. 209 and 37 CFR 404.7. The prospective exclusive license may be granted unless within sixty (60) days from the date of this published notice, the NIH receives written evidence and argument that establishes that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: July 28, 2006.
Steven Ferguson,
Director, Division of Technology Development and Transfer, Office of Technology Transfer, National Institutes of Health.

[FR Doc. 06-6871 Filed 8-11-06; 8:45 am]

BILLING CODE 4140-01-M